ENVIRONMENTAL PROTECTION AGENCY

40 CFR Part 271

[FRL-7031-4]

Idaho: Final Authorization of State Hazardous Waste Management Program Revisions

AGENCY: Environmental Protection Agency (EPA).

ACTION: Proposed rule.

SUMMARY: Idaho has applied to EPA for final authorization of changes to its hazardous waste program under the Resource Conservation and Recovery Act (RCRA). EPA proposes to grant final authorization to Idaho. In the “Rules and Regulations” section of this Federal Register, EPA is authorizing the changes by an immediate final rule. EPA did not make a proposal prior to the immediate final rule because we believe this action is not controversial and do not expect comments that oppose it. We have explained the reasons for this authorization in the preamble to the immediate final rule. Unless we get written comments which oppose this authorization during the comment period, the immediate final rule will become effective on the date established in the final rule, and we will not take further action on this proposal. If we get comments that oppose this action, we will withdraw the immediate final rule and it will not take effect. We will then respond to public comments in a later final rule based on this proposal. You may not have another opportunity for comment. If you want to comment on this action, you must do so at this time.

DATES: Send your written comments by September 21, 2001.

ADDRESSES: Send written comments to Jeff Hunt, U.S. EPA, Region 10, 1200 Sixth Avenue, Mail stop WCM-122, Seattle, WA 98101, phone (206) 553-0256. You can examine copies of the materials submitted by Idaho during normal business hours at the following locations: EPA Region 10 Library,1200 Sixth Avenue, Seattle, WA, 98101, phone (206) 553-1289; or Idaho Department of Environmental Quality, 1410 N. Hilton, Boise, Idaho 83706, phone (208) 373-0502.

FOR FURTHER INFORMATION CONTACT: Jeff Hunt at (206) 553-0256 and at address listed above.

SUPPLEMENTARY INFORMATION: For additional information, please see the immediate final rule published in the “Rules and Regulations” section of this Federal Register.

Dated: August 1, 2001.
Charles E. Findley,
Acting Regional Administrator, Region 10.

[FR Doc. 01-20212 Filed 8-21-01; 8:45 am]

BILLING CODE 6560-50-P